DEPARTMENT OF COMMERCE

International Trade Administration

[A-570-836]

Glycine From the People's Republic of China: Final Results of Antidumping Duty Administrative Review; 2012-2013

AGENCY: Enforcement and Compliance, International Trade Administration, Department of Commerce.

DATES: Effective Date: October 31, 2014.

SUMMARY: On December 26, 2013, the Department of Commerce (the Department) published the preliminary results of the administrative review of the antidumping duty order on glycine from the People's Republic of China (PRC) in the Federal Register.¹ The review covers the period from March 1, 2012, through February 28, 2013. In the Preliminary Results, the Department preliminarily applied facts otherwise available with an adverse inference to the PRC-wide entity because an element of the entity, Hebei Donghua Jiheng Fine Chemical Co., Ltd. (Donghua Fine Chemical), failed to act to the best of its ability in complying with the Department's request for information and, consequently, significantly impeded the proceeding. The Department gave interested parties an opportunity to comment on the Preliminary Results and, based on an analysis of the comments received, we found that no changes were warranted to these final results of review. However, based on further review of the record, we found that some companies did not have any reviewable entries of subject merchandise during the review period. The final weighted-average dumping margin for the review is listed below in the “Final Results of Review” section of this notice.

¹ See Glycine From the People's Republic of China: Preliminary Results of Antidumping Duty Administrative Review; 2012-2013, 78 FR 78331 (December 26, 2013) (Preliminary Results).

FOR FURTHER INFORMATION CONTACT: Edythe Artman or Angelica Mendoza, AD/CVD Operations, Office VI, Enforcement and Compliance, International Trade Administration, U.S. Department of Commerce, 14th Street and Constitution Avenue NW., Washington, DC 20230; telephone: (202) 482-3931 or (202) 482-3019, respectively.

SUPPLEMENTARY INFORMATION:

Background

On December 26, 2013, the Department published the Preliminary Results for this review, which covers the period from March 1, 2012, through February 28, 2013.² In the Preliminary Results, we invited interested parties to comment on our findings and to request a hearing to discuss any issues raised in case and rebuttal briefs. Timely comments were received from the sole respondent in the review, Donghua Fine Chemical, the domestic interested party, GEO Specialty Chemicals, Inc., and two other interested parties, Evonik Rexim (Nanning) Pharmaceutical Co., Ltd. (Evonik), and Paras Intermediates Pvt. Ltd (Paras). GEO and Paras also submitted timely rebuttal comments. Donghua Fine Chemical and Evonik requested a public hearing to discuss briefed issues and a hearing was held on March 12, 2014.

² Id.

On July 23, 2014, we extended the issuance of the final results of review until October 22, 2014.³

³ See Memorandum to Christian Marsh, Deputy Assistant Secretary for Antidumping and Countervailing Duty Operations, from Edythe Artman, International Trade Compliance Analyst, Office VI, Antidumping and Countervailing Duty Operations, regarding “Glycine from the People's Republic of China: Extension of Deadline for the Final Results of Antidumping Duty Administrative Review; 2012-2013,” dated July 23, 2014.

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS). In a separate scope ruling, the Department determined that D(-) Phenylglycine Ethyl Dane Salt is outside the scope of the order.⁴ Although the HTSUS subheading is provided for convenience and customs purposes, the written description of the merchandise under the order is dispositive.

⁴ See Notice of Scope Rulings and Anticircumvention Inquiries, 62 FR 62288 (November 21, 1997).

Determination of No Shipments

We received timely-filed “no-shipment” certifications from eight companies named in the notice of initiation and, in each certification, the company stated that it had no entries of subject merchandise during the period of review. These companies were: (1) AICO Laboratories India Ltd. (AICO), (2) Avid Organics, (3) Aqua Bond Inc., (4) Gurvey & Berry Co., (5) H.T. Griffin Food Ingredients, (6) Paras Intermediates Pvt. Ltd., (7) Unipex Solutions Canada Inc., and (8) Yuki Gosei Kogyo Co. We confirmed these companies had no entries in the data that we obtained from U.S. Customs and Border Protection (CBP) covering the period of review.⁵ Consistent with our practice ⁶ and based on the no-shipment certifications and the CBP data, we determine that these companies did not have any reviewable entries of subject merchandise during the review period and, accordingly, we will issue instructions that are consistent with our “automatic assessment”' clarification for these final results.⁷ For these companies, the cash deposit requirements will remain unchanged.

⁵ See Memorandum to the File from Edythe Artman, International Trade Compliance Analyst, regarding “Release of United States Customs and Border Protection Entry Data for Selection of Respondents for Individual Review, dated May 8, 2013.

⁶ See, e.g., Small Diameter Graphite Electrodes From the People's Republic of China: Final Results of Antidumping Duty Administrative Review; 2011-2012, 78 FR 55680, 55681 (September 11, 2013).

⁷ See Non-Market Economy Antidumping Proceedings: Assessment of Antidumping Duties, 76 FR 65694 (October 24, 2011).

Analysis of Comments Received

All issues raised in the case and rebuttal briefs by interested parties are addressed in the issues and decision memorandum, accompanying this notice, which is hereby adopted by this notice.⁸ A list of the issues which the parties raised and to which the Department responded in the memorandum appears in the appendix of this notice. The Issues and Decision Memorandum is a public document and is on file electronically via Enforcement and Compliance's Antidumping and Countervailing Duty Centralized Electronic Service System (IA ACCESS). IA ACCESS is available to registered users at http://iaaccess.trade.gov and is available to all parties in the Central Records Unit, room 7046 of the main Department of Commerce building. In addition, a complete version of the Issues and Decision Memorandum can be accessed directly at http://enforcement.trade.gov/frn/. The signed and electronic versions of the memorandum are identical in content.

⁸ See Memorandum to Paul Piquado, Assistant Secretary for Enforcement and Compliance, from Christian Marsh, Deputy Assistant Secretary for Antidumping and Countervailing Duty Operations, regarding “Issues and Decision Memorandum for the Final Results of the Administrative Review of the Antidumping Duty Order on Glycine from the People's Republic of China; 2012-2013,” dated October 22, 2014 (Issues and Decision Memorandum).

Changes Since the Preliminary Results

We made no changes to the Preliminary Results based on our analysis of the comments received from parties. However, based on our review of the record, including the review of the no-shipment determinations and CBP data described above, we have found that eight companies had no reviewable entries of subject merchandise during the period of review.

Final Determination as to the PRC-wide Entity

As detailed in the decision memorandum accompanying the Preliminary Results,⁹ the Department found that, because Donghua Fine Chemical had not qualified for a separate rate in a prior segment of the proceeding and had not filed the requisite application in this review, it was part of the PRC-wide entity. The Department then preliminarily determined that it had to rely on facts otherwise available to assign a dumping margin to the PRC-wide entity in accordance with sections 776(a)(1), (2)(A), (B) and (C) of the Tariff Act of 1930, as amended (the Act), because necessary information was not on the record, the PRC-wide entity (including Donghua Fine Chemical) had withheld information that was requested within the established deadline, and, by not providing requested information, the entity had significantly impeded the proceeding. We further preliminarily found that Donghua Fine Chemical's failure to provide the requested information constituted circumstances under which the company and, hence, the PRC-wide entity, had not acted to the best of its ability to comply with the Department's request for information. We therefore preliminarily determined, pursuant to section 776(b) of the Act, that the PRC-wide entity failed to cooperate by not acting to the best of its ability and that, accordingly, when selecting from among the facts otherwise available, an adverse inference was warranted with respect to the PRC-wide entity.

⁹ See Memorandum to Ronald K. Lorentzen, Acting Assistant Secretary for Enforcement and Compliance, from Christian Marsh, Deputy Assistant Secretary for Antidumping and Countervailing Duty Operations, regarding “Decision Memorandum for the Preliminary Results of Antidumping Duty Administrative Review; 2012-2013: Glycine from the People's Republic of China” (Preliminary Decision Memorandum), dated December 18, 2013.

The Department also stated its intent in the Preliminary Results not to rescind the review for 40 exporters because these companies had been named in the initiation notice for the review, were then withdrawn from consideration of individual review because of the submission of timely withdrawals of requests for review by GEO, and do not have separate rates from a completed segment of the proceeding. We thus found all of the companies to be part of the PRC-wide entity under review. However, in light of our no-shipment determinations, only the following companies remain in this category: (1) A&A Pharmachem Inc., (2) Amol Pharmaceuticals Pvt. Ltd., (3) Baoding Mantong Fine Chemistry Co., Ltd., (4) Beijing Onlystar Technology Co., Ltd., (5) Chiyuen International Trading Ltd., (6) China Jiangsu International Economic Technical Cooperation Corporation, (7) E-Heng Import and Export Co., Ltd., (8) Evonik Rexim (Nanning) Pharmaceutical Co., Ltd., (9) FarmaSino Pharmaceuticals (Jiangsu) Co., Ltd., (10) General Ingredient Inc., (11) Gulbrandsen Technologies (India), (12) Hong Kong United Biochemistry Co. Ltd., (13) Jiangsu Dongchang Chemical, (14) Jiangxi Ansun Chemical Technology, (15) Jiangyin Trust International Inc., (16) Jizhou City Huayang Chemical Co., Ltd., (17) Kissner Milling Co. Ltd., (18) NALCO Canada Co., (19) Ningbo Create-Bio Engineering Co. Ltd., (20) Ningbo Generic Chemical Co., (21) Qingdao Samin Chemical Co., Ltd., (22) Ravi Industries, (23) Salvi Chemical Industries, (24) Shanpar Industries Pvt. Ltd., (25) Showa Denko K.K., (26) Shijiazhuang Jackchem Co., Ltd., (27) Shijiazhuang Zexing Amino Acid Co., (28) Tianjin Garments Import & Export, (29) Tianjin Tiancheng Pharmaceutical Company, (30) Tianjin Tianen Enterprise Co. Ltd., (31) Tywoon Development (China) Co., Ltd., and (32) XPAC Technologies Inc.

The Department found no basis to make changes to the Preliminary Results based on our analysis of the comments received by parties on those results.

Therefore, for these final results, the Department finds that Donghua Fine Chemical and the 32 exporters named in this section are part of the PRC-wide entity and that the use of adverse facts available is warranted with respect to the PRC-wide entity.

Final Results of Review

The Department determines that the following percentage weighted-average dumping margin exists for the period March 1, 2012, through February 28, 2013:

Exporter | Dumping margin (percent)
PRC-wide entity (including Hebei Donghua Jiheng Fine Chemical Co., Ltd.) ¹⁰ | 453.79
¹⁰ As noted immediately above, the PRC-wide entity also includes the 32 exporters we are not rescinding from the review.

Disclosure

Normally, the Department discloses to interested parties the calculations performed in connection with a final determination within five days of the date of publication of the notice of the final determination in the Federal Register, in accordance with 19 CFR 351.224(b). But because the Department applied adverse facts available to determine the estimated weighted-average dumping margin for the mandatory respondent in this investigation, there are no calculations to disclose to parties.

Assessment Rates

The Department determined, and the U.S. Customs and Border Protection (CBP) shall assess, antidumping duties on all appropriate entries of subject merchandise in accordance with the final results of this review.¹¹ The Department intends to issue assessment instructions to CBP 15 days after the date of publication of these final results of review.

¹¹ See 19 CFR 351.212(b).

For the PRC-wide entity, the Department will instruct CBP to assess antidumping duties on entries of subject merchandise at the PRC-wide rate of 453.79 percent. For companies we found to have no reviewable entries in this review period, we will instruct CBP to assess duties on entries of subject merchandise consistent with our “automatic assessment” clarification for these final results.

Cash Deposit Requirements

The following cash-deposit requirements will be effective for all shipments of subject merchandise entered, or withdrawn from warehouse, for consumption on or after the publication date of this notice of final results of the administrative review, as provided by section 751(a)(2)(C) of the Act: (1) For any previously investigated or reviewed PRC and non-PRC exporters which are not under review in this segment of the proceeding that received a separate rate in a previous segment of this proceeding, the cash-deposit rate will continue to be the exporter-specific rate published for the most recently-completed period; (2) for all PRC exporters of subject merchandise which have not been found to be entitled to a separate rate, including Donghua Fine Chemical, the cash-deposit rate will be that for the PRC-wide entity (i.e., 453.79 percent); and (3) for all non-PRC exporters of subject merchandise which have not received their own rate, the cash-deposit rate will be the rate applicable to the PRC exporter(s) that supplied the non-PRC exporter. These cash-deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in the Department's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

We are issuing and publishing these final results and this notice in accordance with sections 751(a)(1) and 777(i) of the Act.

Dated: October 22, 2014.
Paul Piquado,
Assistant Secretary for Enforcement and Compliance.

Appendix I

Comments Discussed in the Accompanying Final Issues and Decision Memorandum

I. Summary

II Background

III. Period of Investigation

IV. Scope of the Investigation

V. Discussion of Comments

Comment 1: Application of Adverse Facts Available to the PRC-Wide Entity

Comment 2A: The Status of Paras as Part of the PRC-Wide Entity

Comment 2B: The Status of Evonik as Part of the PRC-Wide Entity

VI. Recommendation

[FR Doc. 2014-25859 Filed 10-30-14; 8:45 am]

BILLING CODE 3510-DS-P